NUCLEAR REGULATORY COMMISSION

[NRC-2016-0238]

Managing Aging Processes in Storage Report

AGENCY: Nuclear Regulatory Commission.

ACTION: Draft NUREG; request for comment.

SUMMARY: The U.S. Nuclear Regulatory Commission (NRC) is issuing for public comment a draft NUREG, NUREG-2214, “Managing Aging Processes in Storage (MAPS) Report.” The draft NUREG provides guidance to the NRC technical review staff and establishes a technical basis for the safety review of renewal applications for specific licenses of independent spent fuel storage installations (ISFSIs) and certificates of compliance of dry storage systems.

DATES: Submit comments on the draft NUREG-2214 by December 26, 2017. Comments received after this date will be considered if it is practical to do so, but the NRC is able to ensure consideration only for comments received on or before this date.

ADDRESSES: You may submit comments by any of the following methods:

• Federal Rulemaking Web site: Go to http://www.regulations.gov and search for Docket ID NRC-2016-0238. Address questions about NRC dockets to Carol Gallagher; telephone: 301-415-3463; email: Carol.Gallagher@nrc.gov. For technical questions, contact the individual listed in the FOR FURTHER INFORMATION CONTACT section of this document.

• Mail comments to: May Ma, Office of Administration, Mail Stop: OWFN-2-A13, U.S. Nuclear Regulatory Commission, Washington, DC 20555-0001.

For additional direction on obtaining information and submitting comments, see “Obtaining Information and Submitting Comments” in the SUPPLEMENTARY INFORMATION section of this document.

FOR FURTHER INFORMATION CONTACT: John Wise, Office of Nuclear Material Safety and Safeguards, U.S. Nuclear Regulatory Commission, Washington, DC 20555-0001; telephone: 301-415-8085; email: John.Wise@nrc.gov.

SUPPLEMENTARY INFORMATION:

I. Obtaining Information and Submitting Comments

A. Obtaining Information

Please refer to Docket ID NRC-2016-0238 when contacting the NRC about the availability of information for this action. You may obtain publicly-available information related to this action by any of the following methods:

• Federal Rulemaking Web site: Go to http://www.regulations.gov and search for Docket ID NRC-2016-0238.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Draft NUREG-2214, “Managing Aging Processes in Storage (MAPS) Report” is available in ADAMS under Accession No. ML17289A237.

• NRC's PDR: You may examine and purchase copies of public documents at the NRC's PDR, Room O1-F21, One White Flint North, 11555 Rockville Pike, Rockville, Maryland 20852.

B. Submitting Comments

Please include Docket ID NRC-2016-0238 in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

The NUREG-2214, “Managing Aging Process for Storage (MAPS) Report,” is a technical basis document that provides guidance to NRC staff on the safety review of renewal applications for the dry storage of spent nuclear fuel. The MAPS Report provides a generic evaluation of the aging mechanisms that have the potential to challenge the ability of dry storage system structures, systems and components to fulfill their important-to-safety functions. The MAPS Report also describes generically acceptable aging management programs that an applicant may use to maintain the approved design basis of its storage system during the period of extended operation, or the period from 20 to 60 years of storage.

The staff will review and consider public comments received on draft NUREG-2214 as it finalizes the guidance. Comments are invited on any areas of the draft guidance.

III. Public Meeting

The NRC will conduct a public meeting for the purpose of describing the draft NUREG and answering questions from the public. The NRC will publish a notice of the location, time, and agenda of the meeting on the NRC's public meeting Web site within at least 10 calendar days before the meeting. Stakeholders should monitor the NRC's public meeting Web site for information about the public meeting at: http://www.nrc.gov/public-involve/public-meetings/index.cfm.

Dated at Rockville, Maryland, this 18th day of October, 2017.
For the Nuclear Regulatory Commission.
Michael C. Layton,
Director, Division of Spent Fuel Management, Office of Nuclear Material Safety and Safeguards.

[FR Doc. 2017-22983 Filed 10-23-17; 8:45 am]

BILLING CODE 7590-01-P